DEPARTMENT OF AGRICULTURE

Submission for OMB Review; Notice of Request for Emergency Approval

In compliance with the requirements of the Paperwork Reduction Act of 1995 (PRA), the Department of Agriculture (USDA) has submitted a request to the Office of Management and Budget (OMB) for a 6-month emergency approval of the following information collection: ICR 0560-0307, Emergency Livestock Relief Program (ELRP). Due to the Notice of Funding Availability notice published on April 4, 2022, FSA received OMB approval for the Emergency Request to allow FSA to begin distributing payments under the ELRP to eligible livestock producers who faced increased supplemental feed costs as a result of forage losses due to a qualifying drought or wildfire in calendar year 2021.

Farm Service Agency

Title: Emergency Livestock Relief Program.

OMB Control Number: 0560-0307.

Summary of Collection: The Farm Service Agency (FSA) is requested emergency clearance and review through 5 CFR 1320.13 for a new information collection for the. FSA is using the Extending Government Funding and Delivering Emergency Assistance Act (Division B, Title 1, Pub. L. 117-43), to assist producers of livestock for losses incurred during calendar 2021 due to qualifying droughts or wildfires.

Ruth Brown,
Departmental Information Collection Clearance Officer.

[FR Doc. 2022-07409 Filed 4-6-22; 8:45 am]

BILLING CODE 3410-05-P